ENVIRONMENTAL PROTECTION AGENCY

[OPPTS-51951; FRL-6743-1]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from July 24, 2000 to August 11, 2000, consists of the PMNs, both pending or expired, and the notices of commencement to manufacture a new chemical that the Agency has received under TSCA section 5 during this time period.

ADDRESSES: Comments may be submitted by mail, electronically, or in person. Please follow the detailed instructions for each method as provided in Unit I. of the SUPPLEMENTARY INFORMATION. To ensure proper receipt by EPA, it is imperative that you identify docket control number OPPTS-51951 and the specific PMN number in the subject line on the first page of your response.

FOR FURTHER INFORMATION CONTACT: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

2. In person. The Agency has established an official record for this action under docket control number OPPTS-51951. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51951 and the specific PMN number in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51951 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from July 24, 2000 to August 11, 2000, consists of the PMNs pending or expired, and the notices of commencement to manufacture a new chemical that the Agency has received under TSCA section 5 during this time period.

III. Receipt and Status Report for PMNs

This status report identifies the PMNs, both pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 61 Premanufacture Notices Received From: 07/24/00 to 08/11/00
Case No. | Received Date | Projected Notice End Date | Manufacturer/Importer | Use | Chemical
P-00-1053 | 07/25/00 | 10/23/00 | CBI | (S) Paper | (G) Naphthalene sulfonic acid derivative
P-00-1054 | 07/25/00 | 10/23/00 | Bedoukian Research, Inc. | (S) Chemical intermediate-pharmaceutical products.; chemical intermediae for flavor/fragrance products (ffdca); chemical intermediate for non-cosmetic applications: soaps, detergents, air-fresheners, scented paper, etc.* | (S) 3-butn-1-ol
P-00-1055 | 07/24/00 | 10/22/00 | Bic USA Inc. | (G) A colorant for ink | (G) Sulfonated-copper phthalocyanine salt of a triarylmethane dye
P-00-1056 | 07/25/00 | 10/23/00 | CBI | (G) Open, non-dispersive use | (G) Polyester resin
P-00-1057 | 07/27/00 | 10/25/00 | CBI | (S) Paper dye | (G) Azo dye, copper complex
P-00-1058 | 07/27/00 | 10/25/00 | CBI | (S) Component of wire enamels used in electrical industry | (G) Aromatic dicarboxylic acid polymer with 1,3-dihydro-1,3-dioxo-5-isobenzofuran-carboxylic acid and 1,1′-methylenebis[4-isocyanatobenzene]
P-00-1059 | 07/27/00 | 10/25/00 | 3M Company | (S) Adhesion promoter | (G) Alkylstyryl polyurea resin
P-00-1060 | 07/27/00 | 10/25/00 | CBI | (G) Coating additive for open, non-dispersive use | (G) Magnesium salt of phosphate ester
P-00-1061 | 07/27/00 | 10/25/00 | E.I. Du pont De Nemours & Company, Inc. (dupont) | (G) Elastomeric parts | (G) Modified ethylene/methyl acrylate copolymer
P-00-1062 | 07/27/00 | 10/25/00 | Vantico Inc. | (S) Cure agent for epoxy floor coating; cure agent for epoxy tank linings; cure agent for maintenance coatings | (G) 4,4′-(1-methylethylidene)bisphenol, polymer with (chloromethyl)oxirane and a diamine
P-00-1063 | 07/31/00 | 10/29/00 | International Flavors and Fragrances, Inc. | (S) Raw material for use in fragrances for soaps, detergents, cleaners and other household products | (S) Benzenepropanal, 4-(1-methylethyl)-*
P-00-1064 | 07/31/00 | 10/29/00 | Orient Corporation of America | (S) Charge stabilizer for lectro-photo copy toner | (S) Ferrate(1-), bis[3,5-bis(1,1-dimethylethyl)-2-(hydroxy-.kappa.o)benzoato(2-)-.kappa.o]-, hydrogen*
P-00-1065 | 07/31/00 | 10/29/00 | CBI | (G) Intermediate | (S) Methanesulfonamide,1,1,1,-trifluoro-n-[(trifluoromethyl)sulfonyl]-*
P-00-1066 | 07/31/00 | 10/29/00 | CBI | (G) Destructive use | (G) Methacrylic acid copolymer
P-00-1067 | 07/28/00 | 10/26/00 | CBI | (G) Oil lubricity modifier | (G) Linear alkyl polyhydroxypolyester
P-00-1068 | 07/31/00 | 10/29/00 | Mitsui Chemicals America, Inc. | (G) Encapsulating or impregnation | (S) Oxirane, 2,2′-[[1- [4-[1-methyl-1-[4-(oxiranylmethoxy)phenyl]ethyl]phenyl] ethylidene]bis(4,1-phenyleneoxymethylene)]bis-*
P-00-1069 | 07/31/00 | 10/29/00 | Mitsui Chemicals America, Inc. | (G) Encapsulating or impregnation | (S) 2-propanol, 1,3-bis[4-[1- [4-[1-methyl-1-[4-(oxiranylmethoxy)phenyl] ethyl]phenyl]-1-[4-(oxiranylmethoxy) phenyl]ethyl]phenoxy]-*
P-00-1070 | 07/31/00 | 10/29/00 | CBI | (G) Additive to security inks dispersive use. | (G) Phosphomolybdo tungstic acid complex of a quaternary amine.
P-00-1071 | 08/01/00 | 10/30/00 | Atofina Chemicals, Inc. | (S) Paper sizing agent for high end inkjet paper | (S) 2,5-furandione, telomer with ethenylbenzene and (1-methylethyl)benzene, 3-(dimethylamino)propyl imide, acetates*
P-00-1072 | 08/01/00 | 10/30/00 | Atofina Chemicals, Inc. | (S) Paper sizing agent for high end inkjet paper | (S) 2,5-furandione, telomer with ethenylbenzene and (1-methylethyl)benzene, 3-(dimethylamino)propyl imide, sulfates*
P-00-1073 | 08/01/00 | 10/30/00 | Atofina Chemicals, Inc. | (S) Paper sizing agent for high end inkjet paper | (S) 2,5-furandione, telomer with ethenylbenzene and (1-methylethyl)benzene, 3-(dimethylamino)propyl imide, phosphates*
P-00-1074 | 08/01/00 | 10/30/00 | Atofina Chemicals, Inc. | (S) Paper sizing agent for high end inkjet paper | (S) 2,5-furandione, telomer with ethenylbenzene and (1-methylethyl)benzene, 3-(dimethylamino)propyl imide, methanesulfonates*
P-00-1075 | 08/01/00 | 10/30/00 | Atofina Chemicals, Inc. | (S) Paper sizing agent for high end inkjet paper | (S) 2,5-furandione, telomer with ethenylbenzene and (1-methylethyl)benzene, 3-(dimethylamino)propyl imide, hydrochlorides*
P-00-1076 | 08/01/00 | 10/30/00 | CBI | (G) Acrylic copolymer salt | (G) Acrylic copolymer salt
P-00-1077 | 08/01/00 | 10/30/00 | CBI | (G) Open, non-dispersive use | (G) Ferric complex
P-00-1078 | 08/01/00 | 10/30/00 | CBI | (G) Fuel additive | (G) Potassium sulfonate
P-00-1079 | 08/02/00 | 10/31/00 | CBI | (G) Printing ink. | (G) Fatty acid, C18-unsatd., dimers, polymers with hexamethylenediamine, acyclic diamine, monocarboxylic acid and a diacarboxylic acid.
P-00-1080 | 08/02/00 | 10/31/00 | CBI | (G) Printing ink. | (G) Fatty acid, C18-unsatd., dimers, polymers with hexamethylenediamine, a cyclic diamine, a monocarboxylic acid and a diacarboxylic acid.
P-00-1081 | 08/02/00 | 10/31/00 | CBI | (G) Printing ink. | (G) Fatty acid, C18-unsatd., dimers, polymers with ethylenediamine, hexamethylenediamine, a cyclic diamine, monocarboxylic acid and a diacarboxylic acid.
P-00-1082 | 08/02/00 | 10/31/00 | CBI | (G) Printing ink. | (G) Fatty acid, C18-unsatd., dimers, polymers with ethylenediamine, hexamethylenediamine, propanoic acid, a cyclic diamine, monocarboxylic acid and a diacarboxylic acid.
P-00-1083 | 08/02/00 | 10/31/00 | CBI | (G) Printing ink. | (G) Fatty acid, C18-unsatd., dimers, polymers with ethylenediamine, hexamethylenediamine, propanoic acid, a cyclic diamine, monocarboxylic acid and a diacarboxylic acid and polymerized fatty acids.
P-00-1084 | 08/02/00 | 10/31/00 | CBI | (G) Printing ink. | (G) Fatty acid, C18-unsatd., dimers, polymers with ethylenediamine, hexamethylenediamine, a cyclic diamine, monocarboxylic acid, dicarboxylic and polymerized fatty acids*
P-00-1085 | 08/02/00 | 10/31/00 | 3M company | (G) Surfactant | (G) Fluoroacrylate copolymer
P-00-1086 | 08/02/00 | 10/31/00 | CBI | (G) Strong base used to perform proton abstractions | (G) Potassium amide salt
P-00-1087 | 08/02/00 | 10/31/00 | CBI | (G) Chemical intermediate used in the synthesis of chemicals and polymers | (G) Di-alkyl borane
P-00-1088 | 08/02/00 | 10/31/00 | CBI | (G) Reagent for organic synthesis | (G) Potassium alkoxide
P-00-1089 | 08/02/00 | 10/31/00 | CBI | (G) Chemical intermediate used in the synthesis of pharmaceuticls | (G) Alkali metal alkyl borohydride
P-00-1090 | 08/02/00 | 10/31/00 | CBI | (G) Synthetic paper size emulsifier | (G) Modified cationic acrylamide polymer
P-00-1091 | 08/02/00 | 10/31/00 | 3M Company | (G) Paper or film coating | (G) Neutralized acrylate polymer
P-00-1092 | 08/02/00 | 10/31/00 | 3M Company | (G) Surfactant | (G) Perfluoroalkyl derivative
P-00-1093 | 08/02/00 | 10/31/00 | 3M Company | (G) Surfactant | (G) Fluoroacrylate copolymer
P-00-1094 | 08/02/00 | 10/31/00 | CBI | (G) Dye | (G) Sodium salt of a naphthalene azo dyestuff
P-00-1095 | 08/04/00 | 11/02/00 | CBI | (G) Moisture curing polyurethane adhesives | (G) Isocyanate terminated urethane polymer
P-00-1096 | 08/04/00 | 11/02/00 | Solutia Inc. | (S) Solid reactive curing agent for uv-cured powder coatings | (G) Methacrylated aliphatic urethane
P-00-1097 | 08/04/00 | 11/02/00 | CBI | (G) Cocatalyst | (S) Aluminoxanes, iso-bu, branched, cyclic and linear*
P-00-1098 | 08/04/00 | 11/02/00 | CBI | (G) Open, non-dispersive (resin) | (G) Prepolymer based on aliphatic polyisocyanate
P-00-1099 | 08/07/00 | 11/05/00 | CBI | (G) infrared absorber | (G) A functionalized polymethine infrared absorber
P-00-1100 | 08/07/00 | 11/05/00 | CBI | (G) Coating | (G) Terpolymer condensate
P-00-1101 | 08/08/00 | 11/06/00 | Kelmar industries, Inc. | (G) Lubricant additive | (G) Alkyl silsesquioxanes
P-00-1102 | 08/08/00 | 11/06/00 | Kelmar industries, Inc. | (G) Lubricant additive | (G) Alkyl silsesquioxanes
P-00-1103 | 08/08/00 | 11/06/00 | CBI | (G) Used as an industrial laminating adhesive | (G) Aromatic isocyanate-polyester-polyether base urethane prepolymer with excess isocyanate
P-00-1104 | 08/09/00 | 11/07/00 | CBI | (S) Base/top coat binder for leather finishing | (G) Block polymer of aromaticdiacid with alkane diamines, polysubstituted cycloalkanes and alkanediols
P-00-1105 | 08/11/00 | 11/09/00 | CBI | (G) Open, non-dispersive use | (G) Hydroxy functional amino ester
P-00-1106 | 08/10/00 | 11/08/00 | Degussa-huls corporation | (S) Industrial annealing lacquer for metalworking | (G) Polymer of aliphatic/aromatic polycarboxylic acids and aliphatic /alicyclic polyols, neutralized with alkanolamine
P-00-1107 | 08/10/00 | 11/08/00 | CBI | (G) Anti-wear additive used in mineral oil industry (contained and dispersive uses) | (G) Polycarboxylate based on natural fatty acids
P-00-1108 | 08/09/00 | 11/07/00 | CBI | (G) Plasticizer | (G) Modified cyclohexane esters
P-00-1109 | 08/11/00 | 11/09/00 | CBI | (S) Tube extrusion;injection molding | (G) Polyolefin-polyamide
P-00-1110 | 08/11/00 | 11/09/00 | CBI | (S) Tube extrusion;injection molding | (G) Polyolefin-polyamide
P-00-1111 | 08/11/00 | 11/09/00 | CBI | (G) Open, non-dispersive (resin) | (G) Unsaturated urethane acrylate resin
P-00-1112 | 08/11/00 | 11/09/00 | CBI | (G) Amine synergists for coatings and inks | (G) Amino acrylate
P-00-1113 | 08/11/00 | 11/09/00 | CBI | (G) Amine synergists for coatings and inks | (G) Amino acrylate

In table II, EPA provides the following information (to the extent that such information is not claimed as CBI) on the Notices of Commencement to manufacture received:

II. 55 Notices of Commencement From: 07/24/00 to 08/11/00
Case No. | Received Date | Commencement/Import Date | Chemical
P-00-0104 | 08/04/00 | 07/11/00 | (S) 1h-benzimidazolium, 2-(6-methoxy-2-benzofuranyl)-1,3-dimethyl-5-(methylsulfonyl)-, acetate, acetate*
P-00-0178 | 08/10/00 | 07/26/00 | (G) Modified acrylic polymer
P-00-0345 | 07/25/00 | 06/22/00 | (G) Styrene acrylate;acrylic polymer
P-00-0351 | 08/07/00 | 07/24/00 | (G) Sulphonated azo dye
P-00-0370 | 08/07/00 | 07/05/00 | (G) Aliphatic alcohol
P-00-0372 | 08/07/00 | 07/11/00 | (G) Acrylic monomer
P-00-0447 | 07/31/00 | 06/27/00 | (G) Polyester polyol
P-00-0492 | 08/03/00 | 08/01/00 | (G) Chelated metal complexes
P-00-0506 | 07/25/00 | 07/03/00 | (G) Sodium salt of a naphthalene azo dyestuff
P-00-0513 | 07/28/00 | 07/11/00 | (G) Arylazo substituted sufonated naphthalene compound
P-00-0516 | 07/28/00 | 07/11/00 | (G) Sulfonated dioxazine compound
P-00-0517 | 07/28/00 | 07/11/00 | (G) Arylazo substituted sulfonated naphthalene compound
P-00-0527 | 08/11/00 | 08/02/00 | (G) Polyester resin
P-00-0539 | 08/01/00 | 07/26/00 | (G) Blocked polyisocyanate
P-00-0540 | 08/04/00 | 07/03/00 | (G) Saturated dicarboxylic acid, polymer with polyester, polyamide and substituted carboxylic acids
P-00-0557 | 08/07/00 | 07/11/00 | (G) Epoxy modified saturated polyester resin
P-00-0564 | 08/07/00 | 07/11/00 | (G) Saturated polyester resin solid
P-00-0565 | 08/01/00 | 07/24/00 | (G) Azo violet pigment
P-00-0567 | 07/25/00 | 07/05/00 | (G) Melamine
P-00-0578 | 07/25/00 | 06/28/00 | (G) Polyester
P-00-0587 | 07/28/00 | 07/10/00 | (G) Amine terminated resin
P-00-0618 | 08/11/00 | 07/11/00 | (G) Substituted hydroxy alkane ether
P-00-0621 | 08/01/00 | 07/07/00 | (G) Long chain fatty acids, polymer with a polyoxyalkylene and a cyclic diacid
P-00-0640 | 07/25/00 | 06/30/00 | (G) Alkyd emulsion
P-00-0647 | 07/25/00 | 07/12/00 | (G) Fatty acids, tall -oil, polymers with diamine, 5 (or 6) -carboxy-4-hexyl-2-cyclohexene-1-octanoic acid, fumaric acid, polyol, maleic anhydride, pentaerythritol and rosin)
P-00-0655 | 08/11/00 | 08/03/00 | (G) Aromatic urethane
P-00-0656 | 08/04/00 | 07/07/00 | (G) Alkenyl ester
P-00-0681 | 08/11/00 | 08/01/00 | (G) Isocyanate—functional polyester polyurethane
P-00-0687 | 08/07/00 | 07/24/00 | (G) Polyetherurethane and polyurea copolymer
P-00-0692 | 08/04/00 | 07/24/00 | (G) Aliphatic polyurethane
P-00-0695 | 08/07/00 | 07/25/00 | (G) Perfluoroalkylated polyamino acid
P-00-0713 | 07/28/00 | 07/17/00 | (G) Arylazo substituted sulfonated naphthalene compound
P-00-0724 | 07/31/00 | 07/21/00 | (G) Polyether modified acrylic
P-00-0734 | 08/03/00 | 07/25/00 | (G) Substituted heterocyclic metal complex
P-96-0094 | 07/27/00 | 07/06/00 | (S) N,n-diethylethanamine trihydrofluoride
P-96-0677 | 07/28/00 | 07/17/00 | (G) 2-propenoic acid copolymer
P-97-0565 | 08/03/00 | 05/12/00 | (G) Poly carboxylic acid, sodium salt
P-98-1179 | 08/01/00 | 07/06/00 | (S) 2-butenedioic acid (z)-, mono-C8-C11-isoalkyl esters, C9 rich*
P-98-1180 | 08/01/00 | 07/06/00 | (S) 2-butenedioic acid (z)-, mono-C9-C11-isoalkyl esters, C10 rich*
P-99-0160 | 07/31/00 | 07/24/00 | (G) Modified acrylic polymer
P-99-0366 | 07/27/00 | 07/18/00 | (S) Silsesquioxanes, 3-aminopropyl, iso-bu, formates (salts)*
P-99-0519 | 07/31/00 | 07/30/00 | (G) 1,1-diphenylethane, reaction products, distillation residues
P-99-0522 | 07/31/00 | 07/30/00 | (G) Diphenylalkane, distillation residues
P-99-0593 | 07/31/00 | 07/30/00 | (G) Polyethylbenzene bottoms, middle fraction, reaction products, distillation heavies
P-99-0594 | 07/31/00 | 07/30/00 | (G) Polyethylbenzene bottoms, middle fraction, reaction products, distillation heavies
P-99-0640 | 08/02/00 | 07/03/00 | (G) Organomodified polysiloxane resin
P-99-0943 | 07/31/00 | 07/16/00 | (G) Polyurethane adhesive purge
P-99-0951 | 07/25/00 | 06/06/00 | (G) Polyisobutene epoxide
P-99-0963 | 07/31/00 | 07/24/00 | (G) Alkylether sulfate, sodium salt
P-99-1072 | 07/31/00 | 07/11/00 | (G) Styrenated alkyd
P-99-1107 | 07/24/00 | 06/29/00 | (S) 3,8,13-trioxa-4,7,9,12-tetrasilapentdecane, 4,12-diethoxy-4,7,7,9,9,12-hexamethyl-*
P-99-1108 | 07/24/00 | 06/29/00 | (G) Fluorosilicone polymer
P-99-1201 | 08/03/00 | 07/25/00 | (S) 2-propenoic acid, reaction products with chloroacetic acid and 4,5-dihydro-1h-imidazole-1-ethanamine 2-nortall-oil alkyl derivs., sodium salts*
P-99-1205 | 07/24/00 | 06/22/00 | (S) 4,4′-(9a-fluoren-9-ylidene) bis[2,6-dibromo]phenol*
P-99-1377 | 08/07/00 | 07/25/00 | (G) Polydimethylsiloxane resin

List of Subjects

Environmental protection, Chemicals, Premanufacturer notices.

Dated: September 14, 2000.
Deborah A. Williams,
Acting Director, Information Management Division, Office of Pollution Prevention and Toxics.

[FR Doc. 00-24437 Filed 9-21-00; 8:45 am]

BILLING CODE 6560-50-S